Title 3—

The President

Proclamation 10714 of March 29, 2024

Arab American Heritage Month, 2024

By the President of the United States of America

A Proclamation

This month, we honor the rich heritage, history, and hopes of the more than 3.5 million Arab Americans across our country who have helped write the American story and move our Nation ever forward embodying the truth that diversity has been and always will be our country's greatest strength.

People with Arab heritage were among the many immigrants who came to our country's shores with a range of cultures, customs, backgrounds, and beliefs, sharing a common courage to start new chapters in an unfamiliar land. As they built their lives, they helped build America—from fighting for our independence in the Continental Army to serving the cause of freedom during World War II to helping build cities and communities across our Nation, often in the face of discrimination and hate.

This legacy of courage, resilience, and service lives on today in Arab Americans across our country. We see it in the brave Arab American service members and public servants, who continue to defend our Nation's security and freedom. We see it in the Arab American engineers, scientists, and medical professionals, who are pioneering new breakthroughs and charting a better future for all. We see it in Arab American business owners and entrepreneurs, who are creating jobs and lifting up communities across the Nation. We see it in Arab American teachers and community leaders, who continue to inspire the next generation. And every day, I see it in the Arab Americans serving throughout my Administration, who are helping us build a stronger, more just Nation.

But as we come together this month to honor these contributions, we must also pause to reflect on the pain being felt by so many in the Arab American community with the war in Gaza. The trauma, death, and destruction in Israel and Gaza have claimed, and continue to claim, far too many innocent lives—including family and friends of Arab Americans across our Nation. I am devastated by the suffering of so many and mourn the lives taken, and I pray for the loved ones left behind and for all the innocent men, women, and children living in dire circumstances.

My Administration is working with partners across the region to respond to the urgent humanitarian crisis, deliver desperately needed aid to Gaza, free the hostages taken during the brutal Hamas terrorist attack on October 7th, and establish an immediate ceasefire that would last at least six weeks, which we would work to build into something more enduring. We are also focused on ensuring that calm is maintained and restored in neighboring states, including Lebanon. We must preserve the space for peace—for a two-state solution with equal measures of security and dignity for both Palestinians and Israelis. We are committed to working with the Arab American community, who remain critical advocates for the Palestinian and Arab people and a just and lasting peace.

This challenge also reminds us of our responsibility as a Nation here at home. Across our country, Arab Americans remain the target of bias and discrimination—including harassment, hate crimes, racist rhetoric, and violent attacks. In recent months, a Palestinian child was killed in his home, a young man was stabbed near a college campus, and a group of students were shot while just walking down the street—tragic reminders that hate never goes away. It only hides. It is up to all of us to give hate no safe harbor.

That is why we are fighting against the rise of all forms of hate, including against Arab Americans. On my first day in office, I rescinded the discriminatory Muslim travel ban that prevented individuals from primarily Middle Eastern and African countries from entering the United States. In 2022, my Administration convened the first United We Stand Summit, which brought together interfaith leaders to counter hate-motivated violence and foster unity. We are also developing our country's first-ever National Strategy to Counter Islamophobia and Related Forms of Bias and Discrimination in the United States, which will identify concrete ways to address the scourge of hate against Muslim, Sikh, South Asian, and Arab American communities. To ensure Arab Americans are fully represented, my Administration finalized the addition of a new Middle Eastern and North African option for the 2030 census and other forms that ask for people's race and ethnicity—a vital step to ensure that Arab Americans are seen, counted, and valued as new policy is being made.

America is the only Nation in the world founded on an idea: that we are all created equal and deserve to be treated equally throughout our lives. We have never fully lived up to that promise, but we have never walked away from it either. This month, we vow that we never will. Together, we recommit to this promise of America by honoring and advancing the dignity, equity, and security of Arab Americans across our Nation.

NOW, THEREFORE, I, JOSEPH R. BIDEN JR., President of the United States of America, by virtue of the authority vested in me by the Constitution and the laws of the United States, do hereby proclaim April 2024 as Arab American Heritage Month. I call upon all Americans to learn more about the history, culture, and achievements of Arab Americans and to observe this month with appropriate programs and activities.

IN WITNESS WHEREOF, I have hereunto set my hand this twenty-ninth day of March, in the year of our Lord two thousand twenty-four, and of the Independence of the United States of America the two hundred and forty-eighth.

[FR Doc. 2024-07173

Filed 4-2-24; 8:45 am]

Billing code 3395-F4-P